DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: January 19, 2023, 10:00 a.m.

PLACE: Room 2C, 888 First Street NE, Washington, DC 20426.

STATUS: Open to the public.

MATTERS TO BE CONSIDERED: Agenda. * Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1097th—Meeting
[Open Meeting; January 19, 2023, 10:00 a.m.]
Item No. | Docket No. | Company
Administrative
A-1 | AD23-1-000 | Agency Administrative Matters.
A-2 | AD23-2-000 | Customer Matters, Reliability, Security and Market Operations.
Electric
E-1 | RM22-3-000 | Internal Network Security Monitoring for High and Medium Impact Bulk Electric System Cyber Systems.
E-2 | OMITTED
E-3 | OMITTED
E-4 | ER22-2970-001 ER22-2983-001 ER22-2971-001 | AEP Generation Resources Inc. Ohio Power Company. Ohio Valley Electric Corporation.
E-5 | ER22-93-001 | Tatanka Ridge Wind, LLC.
E-6 | ER23-479-000; TS23-1-000 | Bellflower Solar 1, LLC.
E-7 | OMITTED
E-8 | ER23-404-000 | Shullsburg Wind Farm LLC, Grant County Solar, LLC, and Red Barn Energy, LLC.
E-9 | ER22-379-003; ER22-379-004 | Southwest Power Pool, Inc.
E-10 | ER18-2358-006 | Southwest Power Pool, Inc.
| ER19-1357-004; ER20-1313-001 (consolidated) | GridLiance High Plains LLC.
E-11 | ER22-2462-000; EL22-27-000 | Alabama Power Company, Georgia Power Company, and Mississippi Power Company.
E-12 | EL22-54-001 | Southwest Power Pool, Inc.
E-13 | EL22-15-001 ER22-1014-002 | New York Power Authority. New York Independent System Operator, Inc. and New York Power Authority.
Gas
G-1 | RP23-198-000 | Tampa Electric Company and Peoples Gas System.
Hydro
H-1 | P-4451-024 | Green Mountain Power Corporation and City of Somersworth, New Hampshire.
H-2 | P-199-205 | South Carolina Public Service Authority.
Certificates
C-1 | CP21-44-001 | LA Storage, LLC.
C-2 | CP16-454-005 | Rio Grande LNG, LLC.
C-3 | CP22-474-000; CP22-475-000; CP22-476-000 | West Texas Gas, Inc. and West Texas Gas Utility, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: January 12, 2023.
Kimberly D. Bose,
Secretary.

[FR Doc. 2023-00954 Filed 1-13-23; 4:15 pm]

BILLING CODE 6717-01-P